OFFICE OF MANAGEMENT AND BUDGET

Draft Report to Congress on the Costs and Benefits of Federal Regulations

AGENCY: Office of Management and Budget, Executive Office of the President.

ACTION: Notice of extension of public comment period.

SUMMARY: On May 2, 2001, OMB published a notice and request for comments for its Draft Report to Congress on the Costs and Benefits of Federal Regulations. The comment period was scheduled to end on July 2, 2001. This notice extends the public comment period on the draft report to August 15, 2001.

DATES: Comment Due Date: August 15, 2001.

ADDRESSES: Comments on this draft report should be addressed to John Morrall, Office of Information and Regulatory Affairs, Office of Management and Budget, NEOB, Room 10235, 725 17th Street, NW., Washington, DC 20503.

You may submit comments by regular mail, by facsimile to (202) 395-6974, or by electronic mail to jmorrall@omb.eop.gov.

FOR FURTHER INFORMATION CONTACT: You can review the Report on the Internet at: http://www.whitehouse.gov/omb/fedreg/cb_report_notice.pdf.

You may also request a copy from John Morrall, Office of Information and Regulatory Affairs, Office of Management and Budget, NEOB, Room 10235, 725 17th Street, NW., Washington, DC 20503. Telephone: (202) 395-7316. E-mail: jmorrall@omb.eop.gov.

SUPPLEMENTARY INFORMATION: On May 2, 2001, OMB published in the Federal Register (66 FR 22041) a notice and request for comment for its Draft Report to Congress on the Costs and Benefits of Federal regulations. The comment period on the draft report was scheduled to end July 2, 2001. Members of the public and Congress have asked for additional time to allow the public a better opportunity to participate in the comment process. Accordingly, OMB has decided to extend the public comment period on the draft report to August 15, 2001.

Donald R. Arbuckle,
Deputy Administrator, Office of Information and Regulatory Affairs.

[FR Doc. 01-16690 Filed 6-29-01; 1:02 pm]

BILLING CODE 3110-01-P